DEPARTMENT OF THE INTERIOR

Bureau of Land Management

[CA-670-00-1220-00, C00-0927 WHA-ADR]

Imperial Sand Dunes Vehicular Use Closure

AGENCY: Bureau of Land Management, Department of the Interior, El Centro Field Office, California Desert District.

ACTION: Temporary closure of parts of the Imperial Sand Dunes Recreation Management Area to off-highway vehicle and other vehicular use in compliance with court-approved stipulations resulting from a lawsuit involving the Endangered Species Act.

SUMMARY: On March 16, 2000 a lawsuit was filed against the Bureau of Land Management by Center for Biological Diversity, Sierra Club and Public Employees for Environmental Responsibility. The basis of the lawsuit is that BLM has not yet consulted with the U.S. Fish and Wildlife Service, as required by the Endangered Species Act, on the effects of the California Desert Conservation Area Plan on species listed by the Service as threatened or endangered. In compliance with stipulations agreed to by the plaintiffs and the BLM and approved by the U.S. District Court for the Northern Jurisdiction regarding Case No. C00-0927 WHA-ADR, the public land areas described below within the Imperial Sand Dunes Recreation Management Area are closed to off-highway vehicle and other vehicular use effective Nov 3, 2000.

This is a temporary closure until the Bureau of Land Management consults with and receives a Biological Opinion from the U. S. Fish and Wildlife Service on the impacts of vehicular use in the Imperial Sand Dunes Recreation Area on the Peirson's milk-vetch (Astragalus magdalenae var. peirsonii), designated by Service in 1998 as a threatened species under the Endangered Species Act.

Affected Lands

Parcel 1, the northern closure area as stipulated in the above mentioned case, is bounded on the southeasterly side by the North Algodones Wilderness Area, on the northeasterly side by Niland-Glamis Road, on the north side by a latitudinal line, and on the southwesterly side by the New Coachella Canal Road. Said parcel contains 3,800 acres more or less, and is more particularly described as follows:

Beginning at the northwesterly corner of the North Algodones Wilderness Area; thence southwesterly on a prolongation of the northwesterly line of the above mentioned wilderness area, approximately 300 feet to a line parallel with and 15.00 feet northeast of the center line of the New Coachella Canal Road (approximate geographic position: longitude 115.26404 degrees, latitude 33.06407 degrees); thence northwesterly, parallel with and 15.00 feet northeast of the center line of the New Coachella Canal Road, to a point at latitude 33.1038 degrees (approximate geographic position: longitude 115.31038 degrees, latitude 33.1038 degrees); thence east to a line parallel with and 20.00 feet southwesterly of the center line of Niland-Glamis Road (approximate geographic position: longitude 115.23364 degrees, latitude 33.1038 degrees); thence southeasterly, parallel with and 20.00 feet southwesterly of the center line of Niland-Glamis Road, to a prolongation of the northwesterly line of the North Algodones Wilderness Area (approximate geographic position: 115.23123 degrees, latitude 33.10230 degrees); thence southwesterly along said line of prolongation 85.00 feet to point 1 of the North Algodones Wilderness Area; thence continuing southwesterly along the northwesterly line of the wilderness boundary to the point of beginning.

Parcel 2, the small central closure as stipulated in the above mentioned case, contains 2,000 acres more or less, and is more particularly described as follows:

Beginning at longitude 115.09392 degrees, latitude 32.92036 degrees; thence to longitude 115.10286 degrees, latitude 32.91969 degrees; thence to longitude 115.10916 degrees, latitude 32.92183 degrees; thence to longitude 115.11854 degrees, latitude 32.93341 degrees; thence to longitude 115.12616 degrees, latitude 32.93998 degrees; thence to longitude 115.11041 degrees, latitude 32.95332 degrees; thence to longitude 115.09628 degrees, latitude 32.95288 degrees; thence to longitude 115.09225 degrees, latitude 32.94338 degrees; thence to point of beginning.

Parcel 3, the large central closure area as stipulated in the above-mentioned case, is bounded on the northeasterly side by Wash Road, on the north side by a latitudinal line, on the southwesterly side by the Sand Highway, and on the southeasterly side by a line falling northerly of Patton Valley. Said parcel contains 43,035 acres more or less, and is more particularly described as follows:

Beginning at the point of intersection of a line parallel with and 20.00 feet northeasterly of the northeasterly edge of the Sand Highway and a line parallel with and 150.00 feet northwesterly of the center line of Patton Valley Road (approximate geographic position: longitude 114.96653 degrees, latitude 32.76586 degrees); thence northwesterly, parallel with and 20.00 feet northeasterly of the northeasterly edge of the Sand Highway, to a point at latitude 32.90653 degrees (approximate geographic position: longitude 115.11257 degrees, latitude 32.90653 degrees); thence east to a line parallel with and 20.00 feet southwesterly of the center line of Wash Road (approximate geographic position: longitude 114.95415 degrees, latitude 32.90653 degrees); thence southeasterly, parallel with and 20.00 feet southwesterly of the center line of Wash Road, to a point at latitude 32.83805 degrees (approximate geographic position: longitude 114.86802 degrees, latitude 32.83805 degrees); thence southwesterly to a line parallel with and 150.00 feet northwesterly of the center line of Patton Valley Road, at latitude 32.78236 degrees (approximate geographic position: longitude 114.95298 degrees, latitude 32.78236 degrees); thence southwesterly, parallel with and 150.00 feet northwesterly of the center line of Patton Valley Road, to the point of beginning.

Parcel 4, the south central closure as stipulated in the above mentioned case is bounded on the southwesterly side by the Sand Highway, on the northwesterly side by Patton Valley Road, with the remainder being defined by longitude and latitude. Said parcel contains 310 acres more or less, and is more particularly described as follows:

Beginning at the point of intersection of a line parallel with and 20.00 feet northeasterly of the northeasterly edge of the Sand Highway and a line parallel with and 150 feet southeasterly of the center line of Patton Valley Road; thence northeasterly, parallel with and 150.00 feet southeasterly of the center line of Patton Valley Road, to a point at latitude 32.77713 degrees (approximate geographic position: longitude 114.95341 degrees, latitude 32.77713 degrees); thence easterly, leaving said road, to longitude 114.94770 degrees, latitude 32.77746 degrees; thence to longitude 114.94433 degrees, latitude 32.77629 degrees; thence to longitude 114.94401 degrees, latitude 32.77449 degrees; thence to longitude 114.94708 degrees, latitude 32.77218 degrees; thence to longitude 114.95472 degrees, latitude 32.76916 degrees; thence southwesterly to a line parallel with and 20.00 feet northeasterly of the northeasterly edge of the Sand Highway, at latitude 32.76222 degrees (approximate geographic position: longitude 114.96253 degrees, latitude 32.76222 degrees); thence northwesterly, parallel with and 20.00 feet northeasterly of the northeasterly edge of the Sand Highway, to the point of beginning.

Parcel 5, the southern closure as stipulated in the above mentioned case, contains 160 acres more or less, and is more particularly defined as follows:

Beginning at longitude 114.91161 degrees, latitude 32.71803 degrees; thence to longitude 114.91115 degrees, latitude 32.72076 degrees; thence to longitude 114.90694 degrees, latitude 32.72732 degrees; thence to longitude 114.90049 degrees, latitude 32.72711 degrees; thence to longitude 114.90507 degrees, latitude 32.71860 degrees; thence to longitude 114.90873 degrees, 32.71786 degrees; thence to point of beginning.

In all five areas, the longitudes and latitudes are based upon the North American Datum of 1983, and were derived from the Bureau of Land Management's Base Cartographic Data as depicted in the exhibits for the above-mentioned case. Longitudinal and latitudinal coordinates are informative calls and shall yield to the physical features where cited. More accurate positions will be collected and recorded when the official survey is performed.

This legal land description will be finalized after formal Land Survey Plats are completed.

Official government vehicles conducting monitoring or other legitimate governmental activities shall be allowed inside the closed areas.

For Additional Information Contact: Roxie Trost, BLM, El Centro Field Office, 1661 S. 4th Street, El Centro , CA 92243, telephone (760) 337 4400.

Greg Thomsen,
Area Manager.

[FR Doc. 00-29314 Filed 11-15-00; 8:45 am]

BILLING CODE 4310-40-P